NATIONAL AERONAUTICS AND SPACE ADMINISTRATION

[Notice: (04-061)]

Notice; Correction

AGENCY: National Aeronautics and Space Administration (NASA).

SUMMARY: In the Federal Register issue of Wednesday, April 21, 2004 (Volume 69, No. 77), pg. 2183-2184, Notice [04-051], make the following corrections: “Dates: All comments should be submitted within 60 calendar days of the date of this publication.” should read “Dates: All comments should be submitted within 30 calendar dates of the date of this publication;” and “Addresses: All comments should be addressed to Ms. Nancy Kaplan, Code VE, National Aeronautics and Space Administration, Washington, DC, 20546-0001.” should read “Addresses: All comments should be addressed to Desk Officer for NASA; Office of Information and Regulatory Affairs; Office of Management and Budget; Room 10236; New Executive Office Building; Washington, DC, 20503.”

FOR FURTHER INFORMATION CONTACT: Ms. Nancy Kaplan, NASA Reports Officer, (202) 358-1372.

Title: Organizational Climate Survey for NASA Marshall Space Flight Center.

OMB Number: 2700-XXXX.

Type of review: New collection.

Dated: April 29, 2004.
Patricia L. Dunnington,
Chief Information Officer.

[FR Doc. 04-10544 Filed 5-7-04; 8:45 am]

BILLING CODE 7510-01-P